NUCLEAR REGULATORY COMMISSION

[Docket No. 52-017; NRC-2008-0149]

Virginia Electric and Power Company D/B/A/ Dominion Virginia Power and Old Dominion Electric Cooperative, North Anna Power Station Combined License Application; Notice of Intent To Prepare a Supplemental Environmental Impact Statement and Conduct Scoping Process

On June 28, 2010, Virginia Electric Power Company d/b/a Dominion Virginia Power and Old Dominion Electric Cooperative (jointly referred to as Dominion) submitted a revision to its combined license (COL) application to build and operate a new reactor at its North Anna Power Station (NAPS) site located in Louisa County, Virginia. The NAPS property is located on the shore of Lake Anna approximately 64 km (40 mi) north-west of Richmond. The proposed new reactor, Unit 3, would be located adjacent to the existing NAPS Units 1 and 2.

Dominion's revision to its COL application, which included an environmental report (ER), changed the referenced reactor technology from the Economic Simplified Boiling Water Reactor Design (ESBWR) to the U.S. Advanced Pressurized Water Reactor (US-APWR). This change in reactor technology by Dominion occurred after the U.S. Nuclear Regulatory Commission (NRC) staff completed its environmental review, which is documented in NUREG-1917, “Supplemental Environmental Impact Statement for the Combined License (COL) for North Anna Power Station, Unit 3.” A notice of availability of the final supplemental environmental impact statement (SEIS) for the COL application (NUREG-1917) was published in the Federal Register by the Environmental Protection Agency (EPA) on March 26, 2010 (75 FR 14594). The environmental impacts analyzed within NUREG-1917 are based, in part, on the design, construction, and operation of an ESBWR at the North Anna site.

The NUREG-1917 supplemented the final environmental impact statement (FEIS) developed for the Dominion Nuclear North Anna, LLC Early Site Permit (ESP), which the NRC issued on November 27, 2007. A notice of availability of NUREG-1811, “Environmental Impact Statement for an Early Site Permit at the North Anna ESP Site,” was published in the Federal Register by the EPA on December 22, 2006 (71 FR 77014).

The purpose of this notice is to inform the public that the NRC staff will prepare a supplement to NUREG-1917 pertaining to the change in the reactor design. In the supplement, the staff intends to identify any significant changes to the previous evaluation of environmental impacts arising from the change in referenced reactor design. Additionally, the NRC staff is providing the public an opportunity to participate in the environmental scoping process for this supplement. The scoping opportunity affords the public an occasion to provide comments concerning the revisions to the application.

This notice advises the public that the NRC staff intends to gather information pertaining to the June 28, 2010, revisions to Dominion's ER and to include this information in the new supplement to be prepared in support of the COL review. In accordance with Title 10 of the Code of Federal Regulations (10 CFR) 51.45 and 51.50, the revised ER need not contain information or analysis submitted in the ER for the ESP stage or resolved in the FEIS for the ESP stage. This notice is being published in accordance with the National Environmental Policy Act of 1969, as amended (NEPA), and NRC regulations found in 10 CFR Part 51. As set forth in 10 CFR 51.92(a), the staff is directed to prepare a supplement to an FEIS when a proposed action has not been taken and if: (1) There are substantial changes in the proposed action that are relevant to environmental concerns, or (2) there is new and significant information or circumstances relevant to environmental concerns and bearing on the proposed action or its impacts. In addition, 10 CFR 51.92(c) permits the staff to prepare a supplement to a FEIS when, in its opinion, preparation of a supplement will further the purposes of NEPA.

The NRC will conduct a scoping process on the revisions to the ER, and, as soon as practicable thereafter, will prepare a draft SEIS for public comment. Participation in the scoping process by members of the public and local State, Tribal, and Federal government agencies is encouraged. The scoping opportunity will be used to accomplish the following:

a. Determine how the information on the change in reactor design affects the staff's previous evaluation of environmental impacts associated with constructing and operating a new unit at the NAPS site and identify the significant issues arising from the change in reactor design to be analyzed in depth; including but not limited to, new and significant information regarding whether the design of the facility falls within the site characteristics and design parameters specified in the ESP;

b. Identify and eliminate from detailed study those issues that are peripheral or that are not significant as they pertain to the change in reactor design; and

c. Identify other environmental review and consultation requirements related to the information on the change in reactor design.

The NRC invites the following entities to participate in the scoping process:

a. The applicant, Dominion;

b. Any Federal agency that has jurisdiction by law or special expertise with respect to any environmental impact involved or that is authorized to develop and enforce relevant environmental standards;

c. Affected State and local government agencies, including those authorized to develop and enforce relevant environmental standards;

d. Any affected Indian tribe; and

e. Any person who requests or has requested an opportunity to participate in the scoping process.

The ESP environmental impact statement (EIS) (NUREG-1811), the COL SEIS (NUREG-1917) and Dominion's revised ER are available for public inspection at the NRC Public Document Room (PDR), located at One White Flint North, 11555 Rockville Pike (first floor), Rockville, Maryland or from the Publicly Available Records component of the NRC Agencywide Documents Access and Management System (ADAMS). ADAMS is accessible at http://www.nrc.gov/reading-rm/adams.html, which provides access through the NRC's Electronic Reading Room (ERR) link. The ADAMS accession number for the ESP EIS, the COL SEIS and the June 28, 2010, revision to the ER are, respectively: ML063470314, ML100680117, and ML102040545. Persons who do not have access to ADAMS or who encounter problems in accessing the documents located in ADAMS should contact the NRC PDR Reference staff at 1-800-397-4209 or 301-415-4737 or by sending an e-mail to pdr.resource@nrc.gov. These documents may also be viewed on the Internet at http://www.nrc.gov/reactors/new-reactors/col/north-anna.html. In addition, the following libraries have agreed to maintain these documents for public inspection: Jefferson-Madison Regional Library in Mineral, Virginia; Hanover Branch Library in Hanover, Virginia; Orange County Library in Orange, Virginia; Salem Church Library in Fredericksburg, Virginia; and C. Melvin Snow Memorial Branch Library in Spotsylvania, Virginia.

Members of the public may submit comments on the revisions to the ER by one of the following methods:

Federal rulemaking Web site: Go to http://www.regulations.gov and search for documents filed under Docket ID NRC-2008-0149. Comments may be submitted electronically through this Web site until the close of the comment period March 9, 2011. Please include Docket ID NRC-2008-0149 in the subject line of your comments.

Mail comments to: Chief, Rulemaking, Announcements, and Directives Branch, Division of Administrative Services, Office of Administration, Mail Stop: TWB-05-B01M, U.S. Nuclear Regulatory Commission, Washington, DC 20555-0001 or by fax to 301-492-3446. Comments should cite the publication date and page number of this Federal Register notice. To ensure that comments are considered in the scoping process, written comments must be post-marked or delivered by the end of the scoping comment period, which is March 9, 2011.

Electronic comments via the Internet to the NRC at NorthAnnaCOLEIS@nrc.gov. Electronic submissions must be sent no later than March 9, 2011, to ensure that they will be considered in the scoping process.

Comments submitted will be posted on the NRC Web site and on the Federal rulemaking Web site, Regulations.gov. Because your comments will not be edited to remove any identifying or contact information, the NRC cautions you against including any information in your submission that you do not want to be publicly disclosed. The NRC requests that any party soliciting or aggregating comments received from other persons for submission to the NRC inform those persons that the NRC will not edit their comments and to remove any identifying or contact information in comments they do not want publicly disclosed.

The NRC staff may consider comments submitted after the end of the comment period, as time and resources permit. Participation in the scoping process does not entitle participants to become parties to the proceeding to which the SEIS relates.

At the conclusion of the scoping process, the NRC staff will prepare a concise summary of the determination and conclusions reached on the scope of the environmental review for the revisions to the Dominion application, including the significant issues identified, and will send a copy of the summary to each participant in the scoping process for whom the staff has an address. The summary will also be available for inspection through the NRC ERR link. The staff will then prepare and issue for comment the draft SEIS, which will be the subject of separate Federal Register notices and a public meeting. Copies of the draft SEIS will be available for public inspection at the above-mentioned address, and one copy per request will be provided free of charge. After receipt and consideration of the comments on the draft SEIS, the NRC staff will prepare a final SEIS, which will also be available for public inspection.

Information about the proposed SEIS and the scoping process may be obtained from Ms. Tamsen Dozier, Environmental Project Manager at 1-800-368-5642, extension 2272 or via e-mail to Tamsen.Dozier@nrc.gov.

Dated at Rockville, Maryland, this 28th day of January 2011.
For the Nuclear Regulatory Commission.
Scott Flanders,
Director, Division of Site and Environmental Reviews, Office of New Reactors.

[FR Doc. 2011-2599 Filed 2-4-11; 8:45 am]

BILLING CODE 7590-01-P